DEPARTMENT OF HOMELAND SECURITY

Bureau of Citizenship and Immigration Services

[CIS No. 2324-04]

Termination and Re-Designation of Liberia for Temporary Protected Status

AGENCY: Department of Homeland Security, Bureau of Citizenship and Immigration Services.

ACTION: Notice.

SUMMARY: The Temporary Protected Status (TPS) designation of Liberia will expire on October 1, 2004. This notice terminates the current designation of Liberia and re-designates Liberia for TPS. The Attorney General designated Liberia for TPS on October 1, 2002. The Secretary of the Department of Homeland Security (DHS) had extended Liberia TPS through October 1, 2004. After reviewing conditions in Liberia, the Secretary of DHS finds that, while the armed conflict has ended, there are extraordinary and temporary conditions that prevent the safe return of nationals to Liberia. The re-designation will allow nationals of Liberia who have been continuously physically present in the United States since August 25, 2004, and continuously resided in the United States since October 1, 2002, to apply for TPS. This notice also sets forth procedures necessary for nationals of Liberia (or aliens having no nationality who last habitually resided in Liberia) to register for TPS. All current Liberia TPS beneficiaries who wish to continue to receive TPS benefits will have to register for TPS according to the procedures set forth in this notice.

EFFECTIVE DATE: The re-designation of Liberia's TPS designation is effective October 1, 2004, and will remain in effect until October 1, 2005. The registration period begins August 25, 2004, and will remain in effect until February 21, 2005.

FOR FURTHER INFORMATION CONTACT: Colleen Cook, Residence and Status Services, Office of Programs and Regulations Development, Bureau of Citizenship and Immigration Services, Department of Homeland Security, 111 Massachusetts Avenue, NW., 3rd Floor, Washington, DC 20529, telephone (202) 514-4754.

SUPPLEMENTARY INFORMATION:

What Authority Does the Secretary of the Department of Homeland Security Have To Terminate the Designation of Liberia and Re-Designate Liberia Under the TPS Program?

On March 1, 2003, the functions of the Immigration and Naturalization Service (Service) transferred from the Department of Justice to the Department of Homeland Security (DHS) pursuant to the Homeland Security Act of 2002, Public Law 107-296. The responsibilities for administering the TPS program held by the Service were transferred to the Bureau of Citizenship and Immigration Services (BCIS).

Under section 244 of the Immigration and Nationality Act (Act), 8 U.S.C. 1254a, the Secretary of DHS, after consultation with appropriate agencies of the Government, is authorized to designate a foreign state (or part thereof) for TPS. The Secretary of DHS may grant TPS to eligible nationals of that foreign state (or aliens having no nationality who last habitually resided in that state).

Section 244(b)(3)(A) of the Act requires the Secretary of DHS to review, at least 60 days before the end of the TPS designation or any extension thereof, the conditions in a foreign state designated under the TPS program to determine whether the conditions for a TPS designation continue to be met and, if so, the length of an extension of TPS. 8 U.S.C. 1254a(b)(3)(A). If the Secretary of DHS determines that the foreign state no longer meets the conditions for TPS designation, he shall terminate the designation, as provided in section 244(b)(3)(B) of the Act. 8 U.S.C. 1254a(b)(3)(B). Finally, if the Secretary of DHS does not determine that a foreign state (or part thereof) no longer meets the conditions for designation at least 60 days before the designation or extension is due to expire, section 244(b)(3)(C) of the Act provides for an automatic extension of TPS for an additional period of 6 months (or, in the discretion of the Secretary of DHS, a period of 12 or 18 months). 8 U.S.C. 1254a(b)(3)(C).

Why Did the Secretary of DHS Decide To Terminate and Re-Designate Liberia Under the TPS Program?

On October 1, 2002, the Attorney General published a notice in the Federal Register designating Liberia under the TPS program based on its ongoing armed conflict. 67 FR 61664. The Secretary of DHS extended this TPS designation by Notice published in the Federal Register on August 6, 2003 at 68 FR 46648, determining that the conditions warranting such designation continued to be met.

Since the date of the most recent extension, DHS and the Department of State (DOS) have continued to review conditions in Liberia. DHS and DOS have determined that, because the armed conflict has concluded, the conditions that prompted designation no longer exist. Accordingly, the Secretary of DHS is terminating the designation of Liberia for TPS under 8 U.S.C. 1254a(b)(3)(B). However, the Secretary of DHS finds that there are extraordinary and temporary conditions in Liberia that prevent the safe return of certain nationals of Liberia (or aliens having no nationality who last habitually resided in Liberia). Further, it is determined that it is not contrary to the national interest of the United States to permit nationals of Liberia (or aliens having no nationality who last habitually resided in Liberia) who qualify for TPS to remain temporarily in the United States. Therefore, the re-designation of Liberia for TPS is warranted under 8 U.S.C. 1254a(b)(1)(C).

DOS observes that a peace agreement has been signed and that the civil war has ended. (DOS Recommendation (May 12, 2004)). The BCIS Resource Information Center (RIC) reports that between March and May 2004 there were no reports of conflict. (RIC Report (July 1, 2004)). The disarmament, demobilization and reintegration (DDR) program has begun; however, the United Nations has not completed the demobilization of the armed groups. (DOS Recommendation (May 12, 2004)). Approximately 42,000 combatants from the three armed factions (Liberian government forces, Liberians United for Reconciliation and Democracy (LURD) and Movement for Democracy in Liberia (MODEL)) have been disarmed since December 2003. Estimates of the total number of combatants range from 40,000 to 60,000. Id. In June 2004, the United Nations Security Council decided to continue sanctions on diamond and timber exports due to widespread corruption in the new government and failure of the government to effectively control large swathes of the interior. (RIC Report (July 1, 2004)).

The protracted civil war has damaged Liberia's infrastructure. Eighty percent of the pre-war housing stock has been damaged. (RIC Report (July 1, 2004)). Less than ten percent of the arable land is under cultivation. Id. Food security, shelter, water, sanitation, and healthcare remain practically non-existent. (DOS Recommendation (May 12, 2004)). Due to the damage to infrastructure caused by the civil war, certain nationals of Liberia cannot yet return home safely. There are 300,000 Liberian refugees in neighboring countries and 500,000 displaced within Liberia. (RIC Report (July 1, 2004)). However, the United Nation High Commission for Refugees (UNHCR) plans to begin to facilitate returns of Liberian refugees from surrounding countries in October, 2004. The current voluntary return of refugees from neighboring countries is already taxing the limited resources of the country. (DOS Recommendation (May 12, 2004)).

Based upon this review, the Secretary of DHS, after consultation with appropriate government agencies, finds that the conditions that prompted designation of Liberia for TPS are no longer met. 8 U.S.C. 1254a(b)(3)(A) and (B). The armed conflict has ceased. However, the Secretary of DHS also finds that the damage caused by the civil war has led to extraordinary and temporary conditions in Liberia that prevent the safe return of certain nationals of Liberia (or aliens having no nationality who last habitually resided in Liberia) who originally registered for TPS in 2002. The Secretary of DHS also finds that permitting nationals of Liberia who qualify for TPS to remain temporarily in the United States is not contrary to the national interest of the United States. 8 U.S.C. 1254a(b)(1)(C). On the basis of these findings, the Secretary of DHS concludes that the TPS designation for Liberia based on an ongoing, armed conflict should be terminated and Liberia should be re-designated for TPS due to extraordinary and temporary conditions. 8 U.S.C. 1254a(b)(3)(B) and 8 U.S.C. 1254a(b)(1)(C).

If I Currently Have TPS Through the Liberia TPS Designation, Do I Have To Register for the New TPS Designation?

Yes. If you already have received TPS benefits through the Liberia TPS designation, your benefits will expire on October 1, 2004. Accordingly, individual TPS beneficiaries must comply with the registration requirements described below in order to maintain their TPS benefits through October 1, 2005. TPS benefits include temporary protection against removal from the United States, as well as employment authorization, during the TPS designation period and any extension thereof. 8 U.S.C. 1254a(a)(1).

How Do I Register for TPS Benefits?

Applicants for TPS may register under the re-designation by filing (1) a Form I-821, Application for Temporary Protected Status, with the fifty dollar ($50) filing fee; (2) a Form I-765, Application for Employment Authorization; (3) two identification photographs (1½ inches × 1½ inches); (4) supporting evidence as required to establish eligibility for TPS benefits as provided in 8 CFR 244.9); and (5) a biometrics fee of seventy dollars ($70) for each applicant over age 14. See the chart below to determine whether you must submit the one hundred and seventy five dollar ($175) filing fee with Form I-765.

An application submitted without the required fee and/or photos will be returned to the applicant. Submit the completed forms and applicable fee, if any, to the BCIS District Office having jurisdiction over your place of residence during the 180-day registration period that begins August 25, 2004, and ends February 21, 2005. An interim employment authorization document will not be issued to an applicant unless the Form I-765, as part of the TPS registration package, has been pending with BCIS more than 90 days after all requested initial evidence has been received, including collection of the applicant's fingerprints at an Application Support Center (ASC). See 8 CFR 103.2(b)(10)(ii) and 8 CFR 274a.13(d).

If . . . | Then . . .
You are applying for employment authorization until October 1, 2005 | You must complete and file the Form I-765, Application for Employment Authorization, with the $175 fee if you are between the ages 14 and 65 (inclusive).
You already have employment authorization or do not require employment authorization | You must complete and file Form I-765 with no fee.¹
You are applying for employment authorization and are requesting a fee waiver | You must complete and file: (1) Form I-765 and (2) a fee waiver request and affidavit (and any other information) in accordance with 8 CFR 244.20.
¹ An applicant who does not seek employment authorization documentation does not need to submit the $175 fee, but must still complete and submit Form I-765 for data gathering purposes.

How Does an Application for TPS Affect My Application for Asylum or Other Immigration Benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii); 8 U.S.C. 1254a(c)(2)(B)(ii).

Can I Apply for Another Immigration Benefit While Registered for TPS?

Yes. Registration for TPS does not prevent you from applying for another non-immigrant status or from filing for adjustment of status based on an immigrant petition. TPS alone, however, does not lead to adjustment of status. 8 U.S.C. 1254a(a)(5) and 8 U.S.C. 1254a(f)(1). For the purposes of change of status and adjustment of status, during the period in which an alien is granted TPS the alien is considered as being in, and maintaining, lawful status as a nonimmigrant. 8 U.S.C. 1254a(f)(4).

Does This Re-Designation Allow Nationals of Liberia (or Aliens Having No Nationality Who Last Habitually Resided in Liberia) Who Entered the United States After October 1, 2002 to Register for TPS?

No. Although this is a notice re-designating Liberia for TPS, the Secretary of DHS has discretion to set the date by which TPS beneficiaries must have established continuous residence in the country. 8 U.S.C. 1254a(c)(1)(A)(ii). This re-designation retains the date of continuous residence of the previous TPS designation, October 1, 2002. To be eligible for benefits under this re-designation, nationals of Liberia (or aliens having no nationality who last habitually resided in Liberia) must have been continuously physically present in the United States since August 25, 2004, and have continuously resided in the United States since October 1, 2002.

What Happens When This Designation of TPS Expires on October 1, 2005?

At least 60 days before this designation of TPS expires on October 1, 2005, the Secretary of DHS will review conditions in Liberia and determine whether the conditions for designation under the TPS program continue to be met, or whether the TPS designation should be terminated. Notice of that determination, including the basis for the determination, will be published in the Federal Register.

Notice of Termination of Designation of Liberia and Re-Designation of Liberia Under the TPS Program

By the authority vested in DHS under sections 244(b)(1) and (b)(3) of the Act, DHS has consulted with the appropriate government agencies and determined that Liberia no longer meets the conditions that prompted designation of Liberia for TPS. 8 U.S.C. 1254a(b)(3)(A) and (B). DHS has also consulted with the appropriate government agencies concerning the re-designation of TPS for Liberia. From these consultations DHS finds that, owing to the damage caused by the civil war, there exist extraordinary and temporary conditions that prevent aliens who are nationals of Liberia (or aliens having no nationality who last habitually resided in Liberia) from safely returning to Liberia. 8 U.S.C. 1254a(b)(1)(C). Accordingly, DHS orders as follows:

(1) The designation of Liberia under section 244(b)(1)(A) of the Act is terminated. 8 U.S.C. 1254a(b)(3)(B).

(2) Liberia is re-designated for TPS under section 244(b)(1)(C) of the Act. 8 U.S.C. 1254a(b)(1)(C).

(3) Nationals of Liberia (or aliens having no nationality who last habitually resided in Liberia) who have been continuously physically present in the United States since August 25, 2004, and who have continuously resided in the United States since October 1, 2002, may apply for TPS during the 180-day registration period from August 25, 2004, until February 21, 2005.

(4) There are approximately 3,792 nationals of Liberia (or aliens having no nationality who last habitually resided in Liberia) who have been granted TPS and who are eligible for registration under the re-designation.

(5) To register, the applicant must file the following: (1) Form I-821, Application for Temporary Protected Status; (2) Form I-765, Application for Employment Authorization; (3) two identification photographs (1½ inches by 1½ inches); (4) supporting evidence as required to establish eligibility for TPS benefits as provided in 8 CFR 244.9; and (5) a biometrics fee of seventy dollars ($70) for each applicant over age 14. Applications submitted without the required fee and/or photos will be returned to the applicant. The fee for filing a Form I-821 is fifty dollars ($50). If the applicant is between the ages of 14 and 65 (inclusive) and requests employment authorization, he or she must submit one hundred and seventy-five dollars ($175) or a properly documented fee waiver request, pursuant to 8 CFR 244.20, with the Form I-765. An applicant who does not request employment authorization must nonetheless file Form I-765 along with Form I-821, but is not required to submit the fee for filing the Form I-765.

(6) At least 60 days before this designation terminates on October 1, 2005, the Secretary of DHS will review the designation of TPS for Liberia and determine whether the conditions for designation continue to be met. 8 U.S.C. 1254a(b)(3)(A). Notice of that determination, including the basis for the determination, will be published in the Federal Register. 8 U.S.C. 1254a(b)(3)(A).

(7) Information concerning the termination and re-designation of Liberia for TPS will be available at local BCIS offices upon publication of this notice and on the BCIS Web site at http://uscis.gov.

Dated: July 28, 2004.
Tom Ridge,
Secretary of Homeland Security.

[FR Doc. 04-19448 Filed 8-24-04; 8:45 am]

BILLING CODE 4410-10-P